NATIONAL AERONAUTICS AND SPACE ADMINISTRATION

[Notice: (23-082)]

NASA Federal Advisory Committees; Notice of Establishment Pursuant to the Federal Advisory Committee Act

AGENCY: National Aeronautics and Space Administration.

The Administrator of the National Aeronautics and Space Administration (NASA) has determined that the establishment of the Biological and Physical Sciences Advisory Committee under the Federal Advisory Committee Act (FACA) is necessary and in the public interest in connection with the performance of duties imposed upon NASA by law. This determination follows consultation with the Committee Management Secretariat, General Services Administration.

Name of Federal Advisory Committee: Biological and Physical Sciences Advisory Committee.

Purpose and Objectives: This committee will advise NASA on scientific matters within the scope of its area of responsibility. Specifically, the scientific matters involve NASA research programs, policies, plans, and priorities pertaining to biological and physical sciences research. It will function solely as an advisory body and will comply fully with the provisions of FACA.

Membership: Membership of this committee and any subordinate groups formed under it shall consist of individual subject matter experts who will serve as Special Government Employees, Regular Government Employees, or Representatives. They will be chosen from among academia, industry and government with demonstrated and well-recognized knowledge, expertise and experience in fields relevant to their respective scientific disciplines. The membership will be fairly balanced in terms of points of view represented and functions to be performed. Diversity shall be considered as well.

Duration: This is a discretionary committee and is envisioned to be continuing entity subject to charter renewals every two years.

Responsible NASA Official: Dr. Michael Robinson, Designated Federal Officer, Science Mission Directorate, NASA Headquarters, Washington, DC 20546.

FOR FURTHER INFORMATION CONTACT: Dr. Michael Robinson, Designated Federal Officer, Science Mission Directorate, NASA Headquarters, Washington, DC 20546; 256-316-5252 or email: michael.p.robinson@nasa.gov.

Patricia Rausch,
Advisory Committee Management Officer, National Aeronautics and Space Administration.

[FR Doc. 2023-16531 Filed 8-2-23; 8:45 am]

BILLING CODE 7510-13-P